DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of January 3, 2011 through January 7, 2011.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
73,459 | PDC Glass and Metal Services, Inc., United Glass Corporation | Cheswick, PA | January 29, 2009.
74,204 | SB Acquisition, LLC, d/b/a Saunders Brothers | Greenwood, ME | March 21, 2010.
74,215 | Muench-Kreuzer Candle Company | Syracuse, NY | May 12, 2009.
74,983 | AAR Manufacturing, Inc., Mobility Systems Division | Cadillac, MI | December 7, 2009.
75,030 | Weyerhaeuser Company, ILevel Division, Hot Springs Regional Office | Hot Springs, AR | December 21, 2009.

The following certifications have been issued. The requirements of Section 222(a)(2)(B) (shift in production or services) of the Trade Act have been met.

TA-W No. | Subject firm | Location | Impact date
73,923 | PCCS, Inc., Pemco Mutual Insurance Company, Leased Workers from Agovia, Consciere, etc. | Seattle, WA | April 8, 2009.
74,416 | Ainak, Leased Workers from Adecco and MS Inspection | Winchester, KY | July 12, 2009.
74,661 | WellPoint, Inc., Financial Operations Recovery Department | Woodland Hills, CA | September 22, 2009.
74,661A | WellPoint, Inc., Financial Operations Recovery Department | Denver, CO | September 22, 2009.
74,661B | WellPoint, Inc., Financial Operations Recovery Department | Indianapolis, IN | September 22, 2009.
74,661C | WellPoint, Inc., Financial Operations Recovery Department | Louisville, KY | September 22, 2009.
74,661D | WellPoint, Inc., Financial Operations Recovery Department | Cape Girardeau, MO | September 22, 2009.
74,661E | WellPoint, Inc., Financial Operations Recovery Department | Springfield, MO | September 22, 2009.
74,661F | WellPoint, Inc., Financial Operations Recovery Department | St. Louis, MO | September 22, 2009.
74,661G | WellPoint, Inc., Financial Operations Recovery Department | Worthington, OH | September 22, 2009.
74,661H | WellPoint, Inc., Financial Operations Recovery Department | Milwaukee, WI | September 22, 2009.
74,776 | Springs Window Fashions, LLC, Wisconsin Drapery Supply, Inc | Pewaukee, WI | October 25, 2009.
74,784 | Humana Insurance Company, Carenetwork, Inc.; Network Provider Operations Division; etc. | Green Bay, WI | October 22, 2009.
74,893 | Precision Camera & Video Repair, Inc., Leased Workers from U.S. Engineering, Staffmark, Premiere Staffing, etc. | Enfield, CT | November 2, 2009.
74,924 | Cessna Aircraft Company | Wichita, KS | November 11, 2009.
74,938 | BIOMET3i, LLC, BIOMET, Inc. Leased Workers from Personally Yours Staffing, Apple One, etc. | Palm Beach Gardens, FL | November 29, 2009.
74,940 | New Process Gear, Magna Powertrain | East Syracuse, NY | December 17, 2010.
74,945 | RR Donnelley, Prepress Digital Imaging Unit; Book Group; Leased Workers from Kelly Services | Harrisonburg, VA | November 30, 2009.
74,945A | RR Donnelley, Prepress Digital Imaging Unit; Book Group; Leased Workers from Kelly Services | Willard, OH | November 30, 2009.
74,945B | RR Donnelley, Prepress Digital Imaging Unit; Book Group; Leased Workers from Kelly Services | Crawfordsville, IN | November 30, 2009.
74,963 | Nabro Able, LLC, Orban | Scottsdale, AZ | December 6, 2009.

The following certifications have been issued. The requirements of Section 222(c) (supplier to a firm whose workers are certified eligible to apply for TAA) of the Trade Act have been met.

TA-W No. | Subject firm | Location | Impact date
74,890 | Ohio Decorative Products, Inc | Spencerville, OH | November 11, 2009.
74,957 | Stet Graphics, Inc | Rolling Meadows, IL | December 2, 2009.

Negative Determinations for Worker Adjustment Assistance

In the following cases, the investigation revealed that the eligibility criteria for worker adjustment assistance have not been met for the reasons specified.

The investigation revealed that the criterion under paragraph (a)(1), or (b)(1), or (c)(1)(employment decline or threat of separation) of section 222 has not been met.

TA-W No. | Subject firm | Location | Impact date
75,050 | Strahan Sewing Machine Company | Chino Hills, CA

The investigation revealed that the criteria under paragraphs (a)(2)(A)(i) (decline in sales or production, or both) and (a)(2)(B) (shift in production or services to a foreign country) of section 222 have not been met.

TA-W No. | Subject firm | Location | Impact date
74,897 | Penske Logistics LLC, General Electric/Penske Corporation; Leased Workers Kelly Temporary, etc | El Paso, TX

The investigation revealed that the criteria under paragraphs(a)(2)(A) (increased imports) and (a)(2)(B) (shift in production or services to a foreign country) of section 222 have not been met.

TA-W No. | Subject firm | Location | Impact date
73,441 | Quad Graphics, Inc | Sussex, WI
73,441A | Quad Tech, Inc | Sussex, WI
73,441B | Quad Graphics, Inc | West Allis, WI
73,441C | Quad Graphics, Inc | Pewaukee, WI
73,441D | Quad Graphics, Inc | Lomira, WI
73,441E | Quad Graphics, Inc | Hartford, WI
73,688 | Double AA Parking and Trucking, Inc., Calexico Freight Lines | Calexico, CA
73,755 | International Paper Company | Cedarburg, WI
73,789 | Application Development Systems | Warren, MI
74,036 | Manpower, Inc., Working On-Site at International Business Machines (IBM) Division 53 | Poughkeepsie, NY
74,424 | Unisource Worldwide, Inc., UWW Holdings, Inc | Wisconsin Rapids, WI
74,754 | Rag and Bone Industries, LLC | New York, NY
74,787 | W.B. Doner & Company | Southfield, MI
74,854 | Behavioral Health Services, Inc., Leased Workers from Agile IT, South Bay Workforce Investment Board, etc | Gardena, CA

The investigation revealed that criteria of Section 222(c)(2) has not been met. The workers' firm (or subdivision) is not a Supplier to or a Downstream Producer for a firm whose workers were certified as eligible to apply for TAA.

TA-W No. | Subject firm | Location | Impact date
73,540 | Keiper, LLC | Eldon, MO

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
74,962 | RR Donnelley, Prepress Digital Imaging Unit; Book Group; Leased Workers from Spherion, etc | Willard, OH
74,964 | RR Donnelley, Prepress Digital Imaging Unit; Book Group; Leased Workers Manpower, etc | Crawfordsville, IN

The following determinations terminating investigations were issued because the petitioning groups of workers are covered by active certifications. Consequently, further investigation in these cases would serve no purpose since the petitioning group of workers cannot be covered by more than one certification at a time.

TA-W No. | Subject firm | Location | Impact date
74,933 | StarTek USA | Grand Junction, CO
74,987 | Foxconn/PCE Technology, Workers On-Site at Dell Products, LP | Winston Salem, NC

I hereby certify that the aforementioned determinations were issued during the period of January 3, 2011 through January 7, 2011. Copies of these determinations may be requested under the Freedom of Information Act. Requests may be submitted by fax, courier services, or mail to FOIA Disclosure Officer, Office of Trade Adjustment Assistance (ETA), U.S. Department of Labor, 200 Constitution Avenue, NW., Washington, DC 20210 or tofoiarequest@dol.gov. These determinations also are available on the Department's Web site at http://www.doleta.gov/tradeact under the searchable listing of determinations.

Dated: January 13, 2011.
Michael W. Jaffe,
Certifying Officer, Office of Trade Adjustment Assistance.

[FR Doc. 2011-1612 Filed 1-25-11; 8:45 am]

BILLING CODE 4510-FN-P